DEPARTMENT OF AGRICULTURE

Grain Inspection, Packers and Stockyards Administration

Amendment to Certification of Nebraska's Central Filing System

AGENCY: Grain Inspection, Packers and Stockyards Administration, USDA.

ACTION: Notice.

SUMMARY: In response to a request from Nebraska's Deputy Secretary of State we are approving the addition of a farm product to Nebraska's certified central filing system for notification of liens on farm products.

DATES: Effective Date: June 15, 2004.

SUPPLEMENTARY INFORMATION: The Grain Inspection, Packers and Stockyards Administration (GIPSA) administers the Clear Title program for the Secretary of Agriculture. The Clear Title program is authorized by section 1324 of the Food Security Act of 1985 and requires that States implementing central filing system for notification of liens on farm products must have such systems certified by the Secretary of Agriculture.

A listing of the States with certified central filing systems is available through the Internet on the GIPSA Web site (http://www.usda.gov/gipsa/). Listings of the specified farm products covered by a State's central filing system are also available through the GIPSA Web site.

We originally certified the central filing system for Nebraska on December 19, 1986. On April 6, 2004, Debbie Pester, Nebraska's Deputy Secretary of State, requested the certification be amended to add the following farm product produced in Nebraska: Bull Semen.

This notice announces the amended certification for Nebraska's central filing system in accordance with the request to add an additional farm product.

Effective Date

This notice is effective upon signature for good cause because it will allow Nebraska to provide information about an additional farm product through its central filing system. Approving additional farm products for approved central filing systems does not require public notice. Therefore, this notice may be made effective in less than 30 days after publication in the Federal Register without prior notice or other public procedure.

Authority: 7 U.S.C. 1631, 7 CFR 2.22(a)(3)(v) and 2.81(a)(5), and 9 CFR 205.101(e).

Dated: June 15, 2004.
Donna Reifschneider,
Administrator, Grain Inspection, Packers and Stockyards Administration.

[FR Doc. 04-13899 Filed 6-18-04; 8:45 am]

BILLING CODE 3410-EN-P